NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 17, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-1, 1 item, 1 temporary item). Master files of an electronic information system that contains information on military family members enrolled in special needs programs. Included are eligibility documentation, evaluations, and treatment plans.

2. Department of the Army, Agency-wide (N1-AU-10-14, 1 item, 1 temporary item). Master files of an electronic information system that is used to account for the status of Army personnel and their families following a natural or man-made disaster.

3. Department of Defense, Defense Logistics Agency (N1-361-10-1, 2 items, 2 temporary items). Master files and outputs of a web-based electronic information system used by agencies to order goods and services.

4. Department of Health and Human Services, Office of the Secretary (N1-468-09-1, 2 items, 2 temporary items). Master files of a learning management system that contains agency training course materials and student training records.

5. Department of Homeland Security, U.S. Customs and Border Protection (N1-568-09-2, 1 item, 1 temporary item). Master files of an electronic information system used for inventory management and tracking maintenance and repair activities relating to agency marine vessels.

6. Department of Homeland Security, U.S. Customs and Border Protection (N1-568-09-3, 1 item, 1 temporary item). Master files of an electronic information system used to process permit applications and fees for multiple border crossings.

7. Department of Homeland Security, U.S. Customs and Border Protection (N1-568-09-5, 1 item, 1 temporary item). Master files of an electronic information system that contains images of cars, trucks, packages, luggage and their contents that is used at ports of entry into the United States to detect contraband.

8. Department of Housing and Urban Development, Office of the Chief Information Officer (N1-207-09-2, 1 item, 1 temporary item). Master files of an electronic information system used to analyze the agency's baseline and target enterprise architecture.

9. Department of the Interior, National Business Center (N1-48-09-9, 2 items, 2 temporary items). Case files accumulated by the Federal Consulting Group which provides consulting services, such as executive coaching and leadership assessment, aimed at overcoming organizational challenges. Also included are reports generated for clients from the American Customer Satisfaction Index.

10. Department of Justice, Office of the Inspector General (N1-60-09-72, 1 item, 1 temporary item). Master files of an electronic information system used for management and tracking of audits.

11. Department of Justice, Bureau of Prisons (N1-129-09-26, 1 item, 1 temporary item). Master files of an electronic information system used to track budget allocations and spending.

12. Department of Justice, Bureau of Prisons (N1-129-09-27, 1 item, 1 temporary item). Master files of an electronic information system used to track contracts with outside specialists involved in drug abuse treatment programs.

13. Department of Justice, Bureau of Prisons (N1-129-09-28, 1 item, 1 temporary item). Master files of an electronic information system which contains data relating to the construction of new facilities during the pre-construction phase.

14. Board of Governors of the Federal Reserve System, Agency-wide (N1-82-09-2, 9 items, 4 temporary items). Web site records relating to nominees for the agency's Consumer Advisory Council, including data on nominees and Web-generated letters confirming receipt of nominations and rejections of nominees. Also included are data files summarized or extracted from research function data bases. Proposed for permanent retention are master files and reports associated with an electronic information system that contains data gathered by multiple Federal agencies in connection with the Community Reinvestment Act.

15. Millennium Challenge Corporation, Agency-wide (N1-561-08-1, 94 items, 66 temporary items). Records relating to routine housekeeping matters, such as procurement, meeting management, and fiscal accounting, informal calendars, working papers and drafts, case files and other records relating to routine grants, donor case files, international relations files, files of committees dealing with routine matters, environmental assessments, and other records that do not document significant or precedent setting policies, procedures, or actions. Proposed for permanent retention are such records as files accumulated by the Board of Directors and senior level officials, case files relating to precedent setting grants, congressional correspondence, files of significant committees, publications, and reports.

16. National Indian Gaming Commission, Administrative Division (N1-220-09-3, 3 items, 3 temporary items). Master files of three electronic information systems that deal with such matters as invoices and billings, budget and financial operations, and payments relating to contractor background investigations.

17. National Indian Gaming Commission, Audit Division (N1-220-09-4, 2 items, 2 temporary items). Master files of electronic information system that maintains data on audits conducted at Indian gaming operations. Also included are master files of a system that contains financial statements and other financial data.

18. National Indian Gaming Commission, Office of General Counsel (N1-220-09-2, 2 items, 2 temporary items). Master files of an electronic information system that contains analyses and other records relating to Indian lands, opinions, and data concerning tribal operations. Also included are master files of an electronic tracking system that documents the status of cases assigned to the office.

Dated: April 9, 2010.
Sharon Thibodeau,
Deputy Assistant Archivist for Records Services—Washington, DC.

[FR Doc. 2010-8788 Filed 4-14-10; 8:45 am]

BILLING CODE 7515-01-P